DEPARTMENT OF DEFENSE

Department of the Army

Armed Forces Epidemiological Board (AFEB)

AGENCY: Office of The Surgeon General, DoD.

ACTION: Notice of partially-closed meeting.

SUMMARY: In accordance with section 10(a)(2) of Public Law 92-463, The Federal Advisory Committee Act, this announces the forthcoming AFEB meeting. This Board will meet from 0730-1630 on Tuesday, 22 May 2001, and 0730-1300 on Wednesday, 23 May 2001. The purpose of the meeting is to address pending and new Board issues, provide briefings for Board members on topics related to ongoing and new Board issues, conduct subcommittee meetings, and conduct an executive working session and to have a classified AFEB update on the DoD Immunization Program for Biological Warfare Defense in accordance with DoD Directive 6205.3. The meeting location will be at the U.S. Army Medical Research Institute of Infectious Diseases (USAMRIID). This meeting will be open to the public on 22 May, but limited by space accommodations. The meeting will be closed to the public on 23 May in accordance with section 552b(c) of Title 5, U.S.C. specifically subparagraph (1) thereof and Title 5, U.S.C., appendix 1, subsection 10(d). Any interested person may attend, appear before or file statements with the committee at the time and in the manner permitted by the committee.

FOR FURTHER INFORMATION CONTACT: COL Benjamin Withers, Acting Executive Secretary, Armed Forces Epidemiological Board, Skyline Six, 5109 Leesburg Pike, Room 682, Falls Church, Virginia 22041-3258, (703) 681-8012/3.

SUPPLEMENTARY INFORMATION: None.

Gregory D. Showalter,
Army Federal Register Liaison Officer.

[FR Doc. 01-7259 Filed 3-22-01; 8:45 am]

BILLING CODE 3710-08-M